DEPARTMENT OF STATE

[Public Notice: 12088]

Notice of Shipping Coordinating Committee Meeting in Preparation for International Maritime Organization MEPC 80 Meeting

The Department of State will conduct a public meeting of the Shipping Coordinating Committee at 10:00 a.m. on Thursday, June 29, 2023, both in-person at Coast Guard Headquarters and via teleconference. The primary purpose of the meeting is to prepare for the eightieth session of the International Maritime Organization's (IMO) Marine Environment Protection Committee (MEPC 80) to be held at IMO Headquarters in London, United Kingdom from Monday, July 3, 2023 to Friday July 7, 2023.

Members of the public may participate up to the capacity of the teleconference phone line, which can handle 500 participants or up to the seating capacity of the room if attending in person. The meeting location will be the United States Coast Guard Headquarters, Ray Evans Conference Center, and the teleconference line will be provided to those who RSVP. To RSVP, participants should contact the meeting coordinator, LT Emily Rowan, by email at Emily.K.Rowan@uscg.mil. LT Rowan will provide access information for in-person and virtual attendance.

The agenda items to be considered by the advisory committee at this meeting mirror those to be considered at MEPC 80, and include:

• Opening of the session

• Adoption of the agenda

• Decisions of other bodies

• Consideration and adoption of amendments to mandatory instruments

• Harmful aquatic organisms in ballast water

• Air pollution prevention

• Energy efficiency of ships

• Reduction of GHG emissions from ships

• Follow-up work emanating from the Action Plan to address marine plastic litter from ships

• Pollution prevention and response

• Reports of other sub-committees

• Identification and protection of Special Areas, ECAs and PSSAs

• Technical cooperation activities for the protection of the marine environment

• Application of the Committee's method of work

• Work programme of the Committee and subsidiary bodies

• Election of the Chair and Vice-Chair

• Any other business

• Consideration of the report of the Committee

Please note: the IMO may, on short notice, adjust the MEPC 80 agenda to accommodate the constraints associated with the meeting format. Any changes to the agenda will be reported to those who RSVP.

Those who plan to participate should contact the meeting coordinator, LT Emily Rowan, by email at Emily.K.Rowan@uscg.mil, or in writing at 2703 Martin Luther King Jr. Ave. SE, Stop 7509, Washington, DC 20593-7509, by June 14, 2023. Please note that, due to security considerations, two valid, government issued photo identifications must be presented to gain entrance to the Douglas A. Munro Coast Guard Headquarters Building at St. Elizabeth's. This building is accessible by taxi, public transportation, and privately owned conveyance (upon request). Additionally, members of the public needing reasonable accommodation should advise the meeting coordinator not later than June 14, 2023. Requests made after that date will be considered but might not be possible to fulfill.

Additional information regarding this and other IMO public meetings may be found at: https://www.dco.uscg.mil/IMO.

(Authority: 22 U.S.C. 2656 and 5 U.S.C. 1009.)

Emily A. Rose,
Executive Secretary, Shipping Coordinating Committee, Office of Ocean and Polar Affairs, Department of State.

[FR Doc. 2023-11325 Filed 5-25-23; 8:45 am]

BILLING CODE 4710-09-P